DEPARTMENT OF HEALTH AND HUMAN SERVICES

National Institutes of Health

National Library of Medicine; Amended Notice of Meeting

Notice is hereby given of a change in the meeting of the National Library of Medicine Special Emphasis Panel, November 18, 2002, 9 a.m. to November 19, 2002, 5 p.m., which was published in the Federal Register on August 29, 2002, 67 FR 55414.

The meeting will be rescheduled to January 13-14, 2003, to allow for sufficient time for an optimal review process. The meeting is closed to the public.

Dated: November 7, 2002.
LaVerne Y. Stringfield,
Director, Office of Federal Advisory Committee Policy.

[FR Doc. 02-29257 Filed 11-18-02; 8:45 am]

BILLING CODE 4140-01-M